DEPARTMENT OF DEFENSE

Office of the Secretary

32 CFR Part 199

[DoD-2010-HA-0113; RIN 0720-AB46]

TRICARE; Changes Included in the National Defense Authorization Act for Fiscal Year 2010; Enhancement of Transitional Dental Care for Members of the Reserve Component on Active Duty for More Than 30 Days in Support of a Contingency Operation

AGENCY: Office of the Secretary, DoD.

ACTION: Proposed rule.

SUMMARY: The Department is publishing this proposed rule to implement section 703 of the National Defense Authorization Act for Fiscal Year 2010 (NDAA for FY10). Specifically, that legislation amends the transitional health care dental benefits for Reserve Component members on active duty for more than 30 days in support of a contingency operation. The legislation entitles these Reserve Component members to dental care in the same manner as a member of the uniformed services on active duty for more than 30 days, thus providing care to the Reserve member in both military dental treatment facilities and authorized private sector dental care. This proposed rule does not eliminate any medical or dental care that is currently covered as transitional health care for the member. However the member's dependents are not entitled to this enhanced benefit.

At present, the transitional health care dental benefits for Reserve Component members includes space available care in military dental treatment facilities and eligibility for the TRICARE Dental Program (TDP). The implementation of section 703 of NDAA for FY10 will enhance the dental benefit to include space required care in military dental treatment facilities; military dental treatment facility referred care to the private sector; and authorized remote dental care in the private sector during the 180 day transitional health care period. Both dental treatment facility referred care and remote care will be administered by TRICARE's Active Duty Dental Program (ADDP). TDP eligibility will begin after the transitional health care period ends.

Reserve Component family members are also eligible for the TRICARE Dental Program (TDP). These family members pay 100% of the premiums while their sponsor is in Reserve status. If their sponsor is activated for more than 30 days, the TDP enrolled Reserve Component family members obtain the same benefits as any other TDP enrolled active duty family members with the Government subsidizing 60 percent of the premium cost for enrolled active duty family members. This change in status and subsidy occurs automatically. Upon the sponsor's deactivation, the family members automatically revert to Reserve Component family member TDP status and pay 100% of the TDP premium cost. With the proposed rule, there is no change to status or eligibility for family members.

DATES: Written comments received at the address indicated below by March 14, 2011 will be accepted.

ADDRESSES: You may submit comments, identified by docket number and/or RIN number and title, by any of the following methods:

• Federal eRulemaking Portal: http://www.regulations.gov. Follow the instructions for submitting comments.

• Mail: Federal Docket Management System Office, 1160 Defense

Pentagon, Room 3C843, Washington, DC 20301-1160.

Instructions: All submissions received must include the agency name and docket number or Regulatory Information Number (RIN) for this Federal Register document. The general policy for comments and other submissions from members of the public is to make these submissions available for public viewing on the Internet at http://regulations.gov as they are received without change, including any personal identifiers or contact information.

FOR FURTHER INFORMATION CONTACT: CAPT Robert H. Mitton, Office of the Assistant Secretary of Defense (Health Affairs), TRICARE Management Activity, telephone (703) 681-0039.

SUPPLEMENTARY INFORMATION:

I. Background

Currently, Reserve Component members who separate from active duty after serving for more than 30 days in support of a contingency operation are entitled to dental care under the transitional assistance medical program in the same manner as a dependent. This consists of only space-available dental care in a military dental treatment facility and is very limited.

This proposed rule amends the transitional health care dental benefit for Reserve Component members who were on active duty for more than 30 days in support of a contingency operation by providing those members' dental care the same as that for a member of the uniformed services on active duty for more than 30 days. This enhanced benefit does not apply to members' dependents.

As mentioned, the transitional health care dental benefits for Reserve Component members include space available care in military dental treatment facilities. Additionally, Reserve Component members are eligible for the TRICARE Dental Program (TDP). The TDP provides comprehensive dental care insurance and requires premium and cost-share payments but includes an annual maximum per enrollee per contract year for non-orthodontic services. This means that the total payments for covered dental services (except orthodontic services) for each enrolled member will not exceed the annual maximum amount in any contract year. The Government subsidizes 60 percent of the premium cost for enrolled Reserve Component members. If activated for more than 30 days in support of a contingency operation, a TDP enrolled Reserve Component member is automatically disenrolled from the TDP and automatically re-enrolled upon deactivation.

Under the proposed rule, a TDP enrolled Reserve Component member activated for more than 30 days is still automatically disenrolled from the TDP; however, the Reserve Component member will not be automatically re-enrolled upon deactivation because the member will be entitled to the same dental benefits as an active duty member. The Reserve Component member will be TDP eligible and automatically re-enrolled in the TDP after the Transitional Health Care period is completed.

Reserve Component family members are also eligible for the TRICARE Dental Program (TDP). These family members pay 100% of the premiums while their sponsor is in Reserve status. If their sponsor is activated for more than 30 days, the TDP enrolled Reserve Component family members obtain the same benefits as any other TDP enrolled active duty family members with the Government subsidizing 60 percent of the premium cost for enrolled active duty family members. This change in status and subsidy occurs automatically. Upon the sponsor's deactivation, the family members automatically revert to Reserve Component family member TDP status and pay 100% of the TDP premium cost. With the proposed rule, there is no change to status or eligibility for family members.

II. Regulatory Procedures

Executive Order 12866 requires that a comprehensive regulatory impact analysis be performed on any economically significant regulatory action, defined as one that would result in an annual effect of $100 million or more on the national economy or which would have other substantial impacts. The Regulatory Flexibility Act (RFA) requires that each Federal agency prepare, and make available for public comment, a regulatory flexibility analysis when the agency issues a regulation which would have a significant impact on a substantial number of small entities. This rule is not an economically significant regulatory action and will not have a significant impact on a substantial number of small entities for purposes of the RFA. Thus this proposed rule is not subject to any of these requirements. This proposed rule would amend the Code of Federal Regulations to conform to the new statutory authority. Public comments are invited. All comments will be carefully considered. A discussion of the major issues received by public comments will be included with the issuance of the final rule.

This rule does not contain unfunded mandates. It does not contain a Federal mandate that may result in the expenditure by State, local and tribal governments, in aggregate, or by the private sector, of $100 million or more in any one year.

This rule will not impose additional information collection requirements on the public under the Paperwork Reduction Act of 1995 (44 U.S.C. 3501-3511).

We have examined the impact(s) of the proposed rule under Executive Order 13132 and it does not have policies that have federalism implications that would have substantial direct effects on the States, on the relationship between the national government and the States, or on the distribution of power and responsibilities among the various levels of government, therefore, consultation with State and local officials is not required.

List of Subjects in 32 CFR Part 199

Claims, Dental health, Health care, Health insurance, Individuals with disabilities, Military personnel.

Accordingly, 32 CFR Part 199 is proposed to be amended as follows:

PART 199—CIVILIAN HEALTH AND MEDICAL PROGRAM OF THE UNIFORMED SERVICES (CHAMPUS)

1. The authority citation for Part 199 continues to read as follows:

Authority: 5 U.S.C. 301; 10 U.S.C. chapter 55.

2. Section 199.3 is amended by revising paragraph (e)(3) to read as follows:

§ 199.3 Eligibility.

* * * * *

(e) * * *

(3) TAMP benefits under TRICARE begin on the day after the member is separated from active duty, and, if such separation occurred on or after November 6, 2003, end 180 days after such date. TRICARE benefits available to both the member and eligible family members are generally those available to family members of members of the uniformed services under this Part. However, during TAMP eligibility, a member of a Reserve Component as described in paragraph (e)(1)(ii) of this section, is entitled to dental care to which a member of the uniformed services on active duty for more than 30 days is entitled. Each branch of service will determine eligibility for its members and eligible family members and provide data to DEERS.

* * * * *

3. § 199.13 is amended by revising paragraph (c)(3)(ii)(E)(1) to read as follows:

§ 199.13 TRICARE Dental Program.

* * * * *

(c) * * *

(3) * * *

(ii) * * *

(E) * * *

(1) Changes in status of active duty, Selected Reserve or Individual Ready Reserve member. When the active duty, Selected Reserve or Individual Ready Reserve member is separated, discharged, retired, transferred to the Standby or Retired Reserve, his or her enrolled dependents and/or the enrolled Selected Reserve or Individual Ready Reserve member loses eligibility and enrollment as of 11:59 p.m. on the last day of the month in which the change in status takes place. When the Selected Reserve or Individual Ready Reserve member is ordered to active duty for a period of more than 30 days without a break in service, the member loses eligibility and is disenrolled, if previously enrolled; however, their enrolled dependents maintain their eligibility and previous enrollment subject to eligibility, enrollment and disenrollment provisions described in this section and in the TDP contract.

(i) Reserve component members separated from active duty in support of a contingency operation. When a member of a reserve component who is separated from active duty to which called or ordered in support of a contingency operation if the active duty is for more than 30 days, the member becomes eligible for Transitional Health Care pursuant to 10 U.S.C. 1145(a) and the member is entitled to dental care to which a member of the uniformed services on active duty for more than 30 days is entitled. Thus the member has no requirement for the TDP and is not eligible to purchase the TDP. Upon the termination of Transitional Health Care eligibility, the member regains TDP eligibility and is reenrolled, if previously enrolled.

(ii) Dependents of members separated from active duty in support of a contingency operation. Dependents of a member of a reserve component who is separated from active duty to which called or ordered in support of a contingency operation if the active duty is active for more than 30 days maintain their eligibility and previous enrollment, subject to eligibility, enrollment and disenrollment provisions described in this section and in the TDP contract. During the member's Transitional Health Care eligibility, the dependents are considered family members of Reserve Component members.

(iii) Members separated from active duty and not covered by 10 U.S.C. 1145(a)(2)(B). When the previously enrolled active duty member is transferred back to the Selected Reserve or Individual Ready Reserve, other than pursuant to 10 U.S.C. 1145(2)(B), without a break in service, the member regains TDP eligibility and is reenrolled; however, enrolled dependents maintain their eligibility and previous enrollment subject to eligibility, enrollment and disenrollment provisions described in this section and in the TDP contract.

(iv) Eligible dependents of an active duty, Selected Reserve or Individual Ready Reserve member serving a sentence of confinement in conjunction with a sentence of punitive discharge are still eligible for the TDP until such time as the active duty, Selected Reserve or Individual Ready Reserve member's discharge is executed.

* * * * *

Dated: January 4, 2011.
Patricia L. Toppings,
OSD Federal Register Liaison Officer, Department of Defense.

[FR Doc. 2011-623 Filed 1-12-11; 8:45 am]

BILLING CODE 5001-06-P